DEPARTMENT OF DEFENSE

Department of the Air Force

Record of Decision for the Final Supplemental Environmental Impact Statement F-35 Beddown at Eglin Air Force Base, Florida

ACTION: Notice of Availability (NOA) of a Record of Decision (ROD).

SUMMARY: On June 26, 2014, the United States Air Force signed the ROD for the Final F-35 Beddown Supplemental Environmental Impact Statement (SEIS). Among other issues, the ROD states the Air Force decision to implement the No Action Alternative, the decision to beddown fifty-nine (59) F-35 aircraft, associated cantonment construction, and recommendations from the Air Force's Gulf Range Airspace Initiative.

The SEIS was made available to the public on February 28, 2014 through a NOA in the Federal Register (Volume 79, Number 40, Page 11428) with a wait period that ended on March 31, 2014.

Authority: This NOA is published pursuant to the relevant subsection of the regulations (40 CFR part 1506.6(b)(2)) implementing the provisions of the NEPA of 1969 (42 USC 4321, et seq.) and the relevant subsections of the Air Force's Environmental Impact Analysis Process (EIAP) (32 CFR Parts 989.21(b) and 989.24(b)(7)).

FOR FURTHER INFORMATION CONTACT: Mr. Mike Spaits, 850-882-2836.

Henry Williams,
Acting Air Force Federal Register Liaison Officer.

[FR Doc. 2014-15910 Filed 7-8-14; 8:45 am]

BILLING CODE 5001-10-P